DEPARTMENT OF TRANSPORTATION

Federal Aviation Administration

Termination of Review of Noise Compatibility Program, Hartsfield-Jackson Atlanta International Airport, Atlanta, GA

AGENCY: Federal Aviation Administration, DOT.

ACTION: Notice.

SUMMARY: The Federal Aviation Administration (FAA) announces it has terminated its review of the Noise Compatibility Program, at the request of the City of Atlanta, under the provisions of 49 U.S.C. 47504 and 14 CFR Part 150.

EFFECTIVE DATES: The effective date of the FAA's termination of its review of the Hartsfield-Jackson Atlanta International Airport Noise Compatibility Program is July 11, 2007.

FOR FURTHER INFORMATION CONTACT: Scott L. Seritt, Manager, Atlanta Airports District Office, Federal Aviation Administration, 1701 Columbia Avenue, Suite 2-260, College Park, Georgia 30337, phone number: 404-305-7151.

SUPPLEMENTARY INFORMATION: On April 10, 2007, the FAA determined that the Noise Exposure Maps submitted by the City of Atlanta were in compliance with applicable requirements and began its review of the Noise Compatibility Program. On June 27, 2007, the City of Atlanta requested that FAA suspend its review and processing of the Noise Compatibility Program for immediate project closure.

Questions may be directed to the individual named above under the heading FOR FURTHER INFORMATION CONTACT.

Issued in College Park, Georgia July 11, 2007.
Scott L. Seritt, Manager,
Atlanta Airports District Office.

[FR Doc. 07-3607 Filed 7-23-07; 8:45 am]

BILLING CODE 4910-13-M